DEPARTMENT OF TRANSPORTATION

Federal Aviation Administration

Air Traffic Data in the Possession of Government Contractors

AGENCY: Federal Aviation Administration (FAA), DOT.

ACTION: Notice.

SUMMARY: The recently enacted Pilot's Bill of Rights (PBR) provides, among other things, that “air traffic data” should be made accessible to, or obtainable by, an airman in Federal Aviation Administration (FAA) investigations when such data are in the FAA's possession and the data will facilitate the individual's ability to participate in a proceeding related to an FAA investigation. Some “air traffic data” are in the possession of government contractors providing operational services to the FAA. This notice specifies how and where an airman may request the FAA's assistance in seeking “air traffic data” from government contractors.

SUPPLEMENTARY INFORMATION:

A. Background

On August 3, 2012, the Pilot's Bill of Rights, Public Law 112-153, was enacted. The PBR requires that the FAA notify an individual who is the subject of an investigation relating to the approval, denial, suspension, modification, or revocation of an airman certificate of certain information regarding the investigation. Among other things, the PBR requires the FAA to inform the individual that he or she “is entitled to access or otherwise obtain air traffic data.” The FAA may delay in providing such notification if it is determined that such notification “may threaten the integrity of an investigation.”

The PBR defines “air traffic data” in the possession of the FAA to include (i) relevant air traffic communication tapes; (ii) radar information; (iii) air traffic controller statements; (iv) flight data; (v) investigative reports; and (vi) any other air traffic or flight data in the FAA's possession that would facilitate the individual's ability to productively participate in a proceeding related to the investigation. The PBR recognizes that some air traffic data are in the possession of government contractors, not the FAA. The PBR provides that an individual—who is the subject of an FAA investigation related to the approval, denial, suspension, modification, or revocation of an airman certificate—is entitled to obtain air traffic data that are “government contractor air traffic data” that would assist the individual in participating in a proceeding related to such an investigation. The PBR provides that such an individual can request that the FAA obtain air traffic data from a government contractor providing operational services to the FAA, including control towers and flight service stations. Under the law, when the FAA requests such data from a government contractor and when the contractor provides the data to the FAA, the FAA is required to transmit the data obtained from the contractor to the individual described above.

B. Centralized FAA Point-of-Contact for Requests for Air Traffic Data From Government Contractors

Shortly, the FAA's Internet Web page (www.faa.gov) will have a “Pilot's Bill of Rights” hyperlink. An individual who is the subject of an investigation related to the approval, denial, suspension, modification, or revocation of an airman certificate may “click” on that hyperlink on the FAA Web page to find out what information the FAA needs to process a request for air traffic data in the possession of government contractors providing operational services to the FAA. The FAA Web site will also provide the individual with an FAA email address—AirmenDataRequest@faa.gov—where the airman can send his or her request for contractor air traffic data.

Because of the costs associated with storing air traffic data, much of it is destroyed or otherwise disposed of within a few days or weeks after it is generated. For an individual's request to be meaningful, it must be expeditiously received by the FAA at a centralized location by FAA personnel who are trained to process such requests, and then it must be submitted to the government contractors before those contractors destroy or otherwise dispose of air traffic data in the normal course of business. FAA personnel who are knowledgeable about government contractors that provide operational services to the FAA (including control towers and flight service stations) will check for submissions made to AirmanDataRequest@faa.gov, and those FAA personnel will expeditiously forward such requests to the appropriate government contractor.

C. What Should Be Contained in the Request for Government Contractor Air Traffic Data

The PBR requires that when an individual who is the subject of an FAA investigation relating to an airman certificate requests air traffic data that are in the possession of a government contractor that provides operational services to the FAA (including control towers and flight service stations), the individual must: (1) Describe the facility at which such information is located; and (2) identify the date on which the information was generated.

Because government contractors may have a tremendous amount of air traffic data, it is important for the individual to provide as much detail as possible regarding the air traffic data being sought. Such things about the aircraft operation as the local time of day, the heading of the aircraft, and its altitude will increase the chances that the appropriate data can be located, retrieved, preserved, and transmitted in accordance with the requirements of the Pilot's Bill of Rights.

Issued in Washington, DC, on August 22, 2012.
Peter J. Lynch,
Assistant Chief Counsel for Enforcement.

[FR Doc. 2012-21145 Filed 8-27-12; 8:45 am]

BILLING CODE P